DEPARTMENT OF AGRICULTURE

Rural Business-Cooperative Service

Maximum Loan Amount for Business and Industry Guaranteed Loans in Fiscal Year 2013

AGENCY: Rural Business-Cooperative Service, USDA.

ACTION: Notice.

SUMMARY: Section 4279.119(a)(1) of 7 CFR allows the Rural Business-Cooperative Service Administrator, at the Administrator's discretion, to grant an exception to the $10 million limit for Business and Industry (B&I) guaranteed loans of $25 million or less under certain circumstances. Due to the limited program funds that are expected for Fiscal Year (FY) 2013 for the B&I Guaranteed Loan Program, the Administrator has decided to only grant exceptions to the $10 million loan limit for existing B&I guaranteed loan borrowers that meet certain criteria. Limiting the maximum loan amount will enable the Agency to provide financing assistance to as many projects as possible. In order for an existing B&I guaranteed loan borrower to be granted an exception to the $10 million loan limit, they must meet the following criteria: (1) Qualify as a high priority project (a requirement of 7 CFR 4279.119(a)(1)(i)), scoring at least 50 points in accordance with the criteria in 7 CFR 4279.155(b); (2) have an existing B&I loan that has been current for the past 12 months without such status being achieved through debt forgiveness; and (3) not be requesting a refinance of the existing B&I loan. All other requirements of 7 CFR 4279.119(a) must be met. Limiting exceptions to the $10 million limit will allow the Agency to guarantee more loans and target smaller loans/projects impacting more small businesses and will assist the Agency to conserve scarce funding dollars at a time when there is unprecedented interest in the program.

DATES: Effective Date: January 4, 2013.

FOR FURTHER INFORMATION CONTACT: Brenda Griffin, email brenda.griffin@wdc.usda.gov, Rural Development, Business Programs, Business and Industry Division, STOP 3224, 1400 Independence Avenue SW., Washington, DC 20250-3224, telephone (202) 720-6802.

SUPPLEMENTARY INFORMATION: This action has been reviewed and determined not to be a rule or regulation as defined in Executive Order 12866 as amended by Executive Order 13258.

Dated: October 3, 2012.
Lillian Salerno,
Acting Administrator, Rural Business-Cooperative Service.

[FR Doc. 2012-31713 Filed 1-3-13; 8:45 am]

BILLING CODE 3410-XY-P